DEPARTMENT OF TRANSPORTATION

National Highway Traffic Safety Administration

[Docket No. NHTSA-2013-0063; Notice 1]

Notice of Receipt of Petition for Decision That Nonconforming 2001 PT Gemala Saranaupaya 1600 Double Axle Trailers Are Eligible for Importation

AGENCY: National Highway Traffic Safety Administration (NHTSA), Department of Transportation (DOT).

ACTION: Receipt of petition.

SUMMARY: This document announces receipt by the National Highway Traffic Safety Administration (NHTSA) of a petition for a decision that 2001 PT Gemala Saranaupaya 1600 double axle trailers that were not originally manufactured to comply with all applicable Federal Motor Vehicle Safety Standards (FMVSS) are eligible for importation into the United States because they have safety features that comply with, or are capable of being altered to comply with, all such standards.

DATES: The closing date for comments on the petition is February 20, 2014.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

All comments received before the close of business on the closing date indicated above will be considered, and will be available for examination in the docket at the above addresses both before and after that date. To the extent possible, comments filed after the closing date will also be considered.

How to Read Comments submitted to the Docket: You may read the comments received by Docket Management at the address and times given above. You may also view the documents from the Internet at http://www.regulations.gov.

Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: George Stevens, Office of Vehicle Safety Compliance, NHTSA (202-366-5308).

SUPPLEMENTARY INFORMATION:

Background

Under 49 U.S.C. 30141(a)(1)(B), a motor vehicle, including a trailer, that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Wallace Environmental Testing Laboratories, Inc. (WETL), of Houston, Texas (Registered Importer R-09-005) has petitioned NHTSA to decide whether nonconforming 2001 PT Gemala Saranaupaya 1600 double axle trailers are eligible for importation into the United States. WETL believes these vehicles are capable of being modified to meet all applicable FMVSS.

WETL submitted information with its petition intended to demonstrate that 2001 PT Gemala Saranaupaya 1600 double axle trailers are capable of being altered to comply with all standards to which they were not originally manufactured to conform.

The petitioner contends that the nonconforming 2001 PT Gemala Saranaupaya 1600 double axle trailers meet or are capable of being readily altered to meet the following standards, in the manner indicated:

Standard No. 106—Brake Hoses: Installation of conforming brake hoses.

Standard No. 108 Lamps, Reflective Devices and Associated Equipment: The trailer will require the following modifications to comply with the requirements. On the rear, 3 lamps will be installed as close as practical to the top of the vehicle at the same height and as close as practical to the center line with lamp centers spaced not less than 6 inches or more than 12 inches. The two red lamps on the rear and two amber lamps on the front must be replaced with lamps conforming to the requirements. The brake and turn signal lamps must be replaced as well.

Standard No. 119 New Pneumatic Tires for Vehicles Other than Passenger Cars: Installation of tires conforming to the requirements of the standard.

Standard No. 120 Tire Selection and Rims for Motor Vehicles Other than Passenger Cars: Installation of a tire and rim information placard in order to meet the requirements of the standard.

Standard No. 121 Air Brake Systems: Installation of a brake system designed specifically for the vehicle in order to meet the requirements of FMVSS No. 121. Test reports intended to validate that the system conforms to the requirements of the standard were submitted as part of this petition.

Standard No. 224 Rear Impact Protection: Installation of a rear impact guard that conforms to the equipment requirements of FMVSS No. 223 Rear Impact Guards in a manner consistent with the manufacturer's installation instructions.

49 CFR part 565 Vehicle Identification Number Requirements: Installation of a vehicle identification number (VIN) label to conform to the requirements of this standard.

Notice of final action on the petition will be published in the Federal Register pursuant to the authority indicated below.

Authority: 49 U.S.C. 30141(a)(1)(A) and (b)(1); 49 CFR 593.7; delegations of authority at 49 CFR 1.95 and 501.8.

Claude H. Harris,
Director, Office of Vehicle Safety Compliance.

[FR Doc. 2014-00924 Filed 1-17-14; 8:45 am]

BILLING CODE 4910-59-P